DEPARTMENT OF HEALTH AND HUMAN SERVICES

Health Resources and Services Administration

Advisory Committee on Organ Transplantation; Cancellation of Meeting

Name: Advisory Committee on Organ Transplantation.

Dates and Times: May 15, 2014, 10:00 a.m. to 4:00 p.m., Eastern Time.

Status: The meeting of the Advisory Committee on Organ Transplantation scheduled for May 15, 2014, is cancelled. This cancellation applies to all sessions of the meeting. The meeting was announced in the Federal Register on April 22, 2014 (79 FR 22507).

For Further Information Contact:

Patricia Stroup, MBA, MPA, Office of the Associate Administrator, Healthcare Systems Bureau, Health Resources and Services Administration, 5600 Fishers Lane, Room 17W43, Rockville, Maryland 20857; telephone (301) 443-1127.

Dated: May 5, 2014.
Bahar Niakan,
Director, Division of Policy and Information Coordination.

[FR Doc. 2014-10739 Filed 5-8-14; 8:45 am]

BILLING CODE 4165-15-P